DEPARTMENT OF STATE

[Public Notice 3905]

Bureau of Educational and Cultural Affairs Request for Grant Proposals: Central and East European Exchanges and Training Programs for Albania, Bosnia-Herzegovina, Bulgaria, Croatia, Hungary, Kosovo, Macedonia, Montenegro, Poland, Romania, Serbia, the Slovak Republic, and Slovenia

SUMMARY: The Office of Citizen Exchanges of the Bureau of Educational and Cultural Affairs announces an open competition for Central and East European Exchanges and Training Programs. Public and private non-profit organizations meeting the provisions described in Internal Revenue Code section 26 USC 501(c)(3) may submit proposals to conduct training programs.

Program Information

Overview

The Bureau of Educational and Cultural Affairs (ECA) invites applicants to submit proposals that encourage the growth of democratic institutions in Albania, Bosnia-Herzegovina, Bulgaria, Croatia, Hungary, Kosovo, Macedonia, Montenegro, Poland, Romania, Serbia, the Slovak Republic, and Slovenia. Exchanges and training programs supported by institutional grants from ECA should operate at two levels: they should enhance institutional partnerships, and they should offer practical information to individuals and groups to assist them with their professional and volunteer responsibilities.

Strong proposals usually have the following characteristics: an active, existing partnership between a U.S. organization and an in-country institution(s); a proven track record for conducting successful program activity; cost-sharing from U.S. and in-country sources, including donations of air fare, hotel and/or housing costs, ground transportation, interpreters, room rentals, etc.; experienced staff with language ability; a clear, convincing plan outlining exactly how the program components will be carried out and how permanent results will be achieved as a result of the grant; and a follow-on plan that extends beyond the ECA grant period. Knowledge of the current technological capacity (Internet connectivity, e-mail, hardware and software) of in-country partners and their countries and/or regions, and a description of the role of technology in the proposed program, are essential. Cost sharing, which should be included in the budget, must be in tangible forms, both in-kind and monetary. Cost sharing may be contributed to the program by the prospective grantee institution, in-country partners and by third party sources.

Unless otherwise specified below: (1) Program activity may include: “training of trainers (TOT),” internships, short-term training, consultations, site visits, workshops; and (2) programming may take place in the United States or, when possible, in the target country(ies), or in both. Proposals should reflect a practical understanding of the current political, economic and social environment that is relevant to the theme addressed in the proposal. In order to avoid the duplication of activities and programs, proposals should also indicate knowledge of similar projects being conducted in the region.

Applicants are expected to identify the U.S. and in-country partner organizations and individuals with whom they are proposing to collaborate and describe in detail previous cooperative projects undertaken by the organizations/individuals. Specific information about in-country partners' activities and accomplishments is required and should be included in the section on “Institutional Capacity.” Resumes for individuals mentioned in the proposal should be provided, including proposed U.S. and in-country staff, trainers, consultants, etc. Letters of support from partner organizations as well as internship and site visit hosts should be included in the proposal.

Programs should be designed so that the sharing of information and training that occurs during the grant period will continue long after the grant period is over. Proven methods of sustainability include, but are not limited to: a model TOT program that would include initial training, practice presentation sessions for the in-country participants, followed by training activities coordinated and implemented by the in-country participants in their home countries; a commitment to create or support in-country training/resource centers; plans to create coalitions, professional interests groups, networks, or associations; regularly published electronic and/or hard-copy newsletters; and ongoing mentoring through Internet communication.

All proposals should include a discussion of the follow-on activities that will continue after the USG funding period is over.

Grants awarded to eligible organizations with less than four years of experience in conducting international exchange programs will be limited to $60,000.

To be eligible for a grant award under this competition, the proposed training and exchange programs must address one of the following specific themes for regional projects or single country projects, as specified.

• Prevention of Trafficking in Women and Girls—Regional Project—Must include all of the following countries: Albania, Bosnia-Herzegovina, Bulgaria, Croatia, Kosovo, Macedonia, Montenegro, Romania, and Serbia

• Diplomatic Training—Single Country Project: Must target Macedonia or Romania

• Professional Internships—Projects for Bulgaria, Hungary, Poland, the Slovak Republic and Slovenia (please see topics and country assignments below)

Prevention of Trafficking in Women and Girls

Trafficking in Women and Girls has become a widespread problem in Southeastern Europe (SEE). In June 2001 the U.S. Department of State released its first report on the issue of trafficking in persons worldwide. (Please see http://www.state.gov/g/inl/rls/tiprpt/2001/.) The need to educate and inform communities, lawmakers and media representatives has become imperative to prevent women and girls from falling victim to trafficking in the SEE region.

The Bureau seeks proposals that provide training and capacity building to individuals and communities in the SEE region to help combat trafficking in women and girls. Programs should be regional in focus and should include cross-border efforts to ensure integration of efforts and cooperation among SEE countries. To avoid duplication of efforts, applicants should be familiar with the International Organization for Migration and the UNHCR's programs as well as indigenous SEE NGOs' programs to combat trafficking. Priority will be given to programs that propose to reach risk groups where anti-trafficking initiatives have been limited or nonexistent. Proposals may address multiple themes listed below. Applicants should expect to work closely with the Public Affairs Sections of the U.S. Embassies in SEE on coordination of all activities, including participant selection.

Areas of Focus

Bilateral exchange and training programs that may address public awareness, victim assistance, reintegration and/or occupational training:

1. The Bureau is seeking two-way exchange programs that will educate the U.S. and SEE citizenries on the issue of trafficking. Many NGOs in SEE have been confronting the issue of trafficking and have much to share with their U.S. counterparts. Given that many women are now being trafficked into the United States, it is important that U.S. relief and assistance organizations are exposed to effective prevention and assistance programs in SEE. SEE participants in turn will benefit from exposure to U.S. models for job training and life skills management programs, peer education and economic assistance programs as well as models for successful advocacy and fundraising campaigns on the issue. Participants may be leaders of NGOs, community leaders, teachers and school administrators and local government officials. Follow-up workshops/on site consultations in the region are encouraged after the U.S.-based training. Programs may focus on developing participants' skills to establish job training programs and centers in the region, but funding may not be used for the establishment of the centers. Successful proposals will offer hands-on training, including shadowing and internship opportunities, as well as the development of action plans, publications, web-based information and/or other products that can be accessed easily by the general public.

2. Training and exchanges of SEE media representatives: The Bureau seeks proposals that will provide hands-on training to SEE journalists to ensure widespread, accurate media coverage on the issue of trafficking, to raise media professionals' awareness of the issue, and to train journalists to cover the issue of trafficking without stigmatizing victims. Workshops and on-site consultations at media outlets in the region are strongly encouraged. U.S.-based training may also be proposed when appropriate. Target participants may include media managers, editors and journalists. Successful proposals will include plans for interactive training, as well as the development of action plans, publications, web-based information and/or other results-oriented products that media representatives may access.

3. Training and exchanges of parliamentarians and other government officials: The Bureau welcomes proposals that will encourage members of parliament and other government officials to take an active stand against trafficking in the SEE region. Proposals should focus on how government should enforce and/or improve laws against trafficking. Proposals should outline a strategy on how governments in the region can increase information sharing among the SEE governments on the issue and cooperate to close down trafficking routes in the region. Proposals should also address how training will encourage cooperative and complementary efforts among government, the media and the NGO community regarding the issue. Two-way exchanges and follow-up workshops in the region are strongly encouraged. The Bureau is interested in results-oriented proposals that include regional action plans, publications and other work products that will serve to educate government officials throughout the SEE region regarding the issue of trafficking.

Funding: The total funding available for prevention of trafficking programs is $989,450. The Bureau anticipates awarding 4-6 proposals for this competition, averaging approximately $60,000-$215,000 each.

Diplomatic Training

For Macedonia

The Bureau is seeking proposals that will offer training to representatives of Macedonia's Ministry of Foreign Affairs (MFA). Programs will offer training and assistance to the Macedonian MFA to help establish a unified foreign policy in the face of ethnic and political divisions and to create a professional, multi-ethnic Macedonian foreign service that can represent the country abroad.

Macedonian diplomats, including deputy chiefs of mission and other senior, mid-level and junior officials, should be trained in the essentials of foreign policy formulation. Training will be based on courses offered to U.S. diplomats and will incorporate such practical and substantive themes as: international politics (including international organizations and lending institutions); the structure and operation of an embassy; professional ethics; management skills; analytical reporting; negotiation skills; media relations and public diplomacy; trade promotion; management of VIP visits and other relevant topics.

The program should include in-country training as well as training in the United States. Program activity may incorporate training-of-trainers, workshops, internships and site visits and should reflect a practical understanding of the current political, economic and social climate in Macedonia. Training should balance formal presentations, discussions and group exercises and should be targeted at diplomats with a wide range of experience, including some who are new to the profession. The Macedonian MFA will nominate participants. The U.S. Embassy in Skopje will make final participant selection. Applicants are required to work closely with the Public Affairs Section in Skopje during all program planning and implementation. Language issues must also be addressed throughout the proposal.

Funding: The total funding available for Diplomatic Training in Macedonia is $239,375. The Bureau anticipates awarding one grant.

For Romania

The Bureau is seeking proposals that will provide consultative support and professional training for the staff and faculty of the Diplomatic Academy (DA) in Bucharest. The objectives of the project are:

—To improve the existing training of new foreign service officers;

—To develop advanced training programs for mid- and senior-level career diplomats;

—To develop short-term academic courses in international affairs to be offered to Romanian government employees and employees of Romanian NGOs;

—To establish a documentation center for the DA;

—To establish a system for evaluating work performance at DA which will help the Ministry of Foreign Affairs (MFA) in determining assignments and promotions of diplomats.

Currently, the only activity that the DA conducts is beginning-level training for new foreign service officers. There is one class per year composed of about fifteen freshman foreign service officers. The nine-month course is composed of six months of theoretical instruction at the academy followed by three months of practical training somewhere else in the MFA, which oversees the work of the DA.

The following program activities should be proposed:

An Initial Needs Assessment of the DA by a U.S. Consultant

A needs assessment of the DA should be carried out in the opening weeks of the program. Specific recommendations will be provided to the Public Affairs Section (PAS) of the U.S. Embassy in Bucharest. These recommendations will, in turn, be shared with the MFA.

US-Based Training Visit(s) for Faculty/Staff of the DA

The grantee organization will organize short-term U.S.-based training for key DA staff in order to allow them to: (1) Improve the existing training that it provides to new foreign service officers, (2) develop training courses for mid- and senior-level diplomats, and (3) develop and implement a mechanism for evaluating work performance to help in determining diplomat assignments and promotions. Further, U.S.-based training may be proposed for the DA staff that will be setting up the documentation center.

Visit(s) to DA by U.S. Trainers and/or Grantee Coordinators

The in-country components should be proposed for American experts who will: (1) Provide follow-on consultations and assess the effectiveness of the U.S.-based training on developing curriculum and courses for DA, (2) develop courses on international relations, and (3) assist with the establishment of the DA's documentation center.

Equipment Purchases

Based on the finds of the initial needs assessment, reasonable requests for basic office equipment, such as a computer, printer, or scanner, may be proposed for the documentation center.

Applicants will be required to work very closely with PAS/Bucharest throughout the program, including the recruitment and selection of participants.

Funding: The total funding available for Diplomatic training in Romania is $137,250. The Bureau anticipates awarding one grant.

Professional Internships

The Bureau is seeking proposals that provide community based, four-to six-week practical training opportunities with home-stays in the United States on the topics listed below. The objectives of the exchanges are to provide participants with exposure to the day-to-day functioning of a democratic, free market system and create links between U.S. and CEE regions and communities. Projects may also include in-country components that send American experts to conduct or co-conduct workshops or consultancies. These activities may be held in a central location or in individual countries. Participants in the internship components must speak English; interpreters may be used at in-country workshops.

Proposals should address one of the following themes and include the countries listed beside each topic.

1. Public Administration Focusing on Transparency at the Local Level—Bulgaria, Hungary, Poland, Slovak Republic,Slovenia (Must Include All Countries)

Projects should examine transparency and freedom of information issues for local governments and NGOS.

2. Tolerance, Pluralism and Diversity—Bulgaria, Hungary, Poland, Slovak Republic (Must Include All Countries)

Projects should examine approaches taken by NGO, government and education leaders to promote tolerance and protect the rights of minority populations.

Funding: The total funding available for Professional Internships is approximately $400,000. The Bureau anticipates awarding 2-3 grants for this competition. Although no set funding limit exists, proposals for less than $150,000 will receive preference.

Guidelines: Subject to the availability of funds, ECA anticipates that grant will begin in August, 2002.

Selection of Participants

Except when the U.S. Embassies' Public Affairs Sections will nominate participants, a competitive selection process is required. The majority of proposals should include a description of an open, merit-based participant selection process, including advertising, recruitment and selection. A sample application should be submitted with the proposal. Applicants should expect to carry out the entire selection process, with the understanding that ECA and the Public Affairs Sections of the U.S. Embassies abroad must be consulted during the recruitment and selection procedures. ECA and the U.S. Embassies retain the right to nominate participants and to approve or reject participants recommended by the grantee institution. Priority must be given to foreign participants who have not traveled to the United States.

Visa Regulations

Foreign participants on programs sponsored by ECA are granted J-1 Exchange Visitor visas by the U.S. Embassy in the sending country. All programs must comply with J-1 visa regulations. Please refer to the Proposal Submission Instructions (PSI) for further information.

Project Funding

Budget Guidelines

Applicants must submit a comprehensive line item budget based on the model in the Proposal Submission Instructions, but are encouraged to provide the optional separate sub-budgets for each program component, location or activity in order to facilitate decisions on funding. Applicants should include a budget narrative or budget notes for clarification of each line item.

Cost sharing: Since ECA's grant assistance constitutes only a portion of total project funding, proposals should list and provide evidence of other sources of cost sharing, including financial and in-kind support. Proposals with substantial private sector support from foundations, corporations, and other institutions will be considered highly competitive. Please refer to the statement on cost sharing in the Proposal Submission Instructions.

The Following Program Costs Are Eligible for Funding Consideration

1. Transportation. International and domestic airfares (per the Fly America Act), transit costs, ground transportation costs, and visas for U.S. participants (visas for ECA-supported participants from Central and Eastern Europe to travel to the U.S. are issued at no charge).

2. Per Diem. For U.S.-based programming, organizations should use the published Federal per diem rates for individual U.S. cities. For activities in Europe and Eurasia, ECA strongly encourages applicants to budget realistic costs that reflect the local economy. Domestic per diem rates may be accessed at: http://www.policyworks.gov/ and foreign per diem rates can be accessed at: http://www.state.gov/www/perdiems/index.html.

3. Interpreters. Local interpreters with adequate skills and experience may be used for program activities. Typically, one interpreter is provided for every four visitors who require interpreting, with a minimum of two interpreters. ECA grants do not pay for foreign interpreters to accompany delegations from their home country. Salary costs for local interpreters must be included in the budget. Costs associated with using their services may not exceed rates for U.S. Department of State interpreters. ECA strongly encourages applicants to use local interpreters. U.S. Department of State Interpreters may be used for highly technical programs with the approval of the Office of Citizen Exchanges. Proposal budgets should contain a flat$170/day per diem for each U.S. Department of State interpreter, as well as home-program-home air transportation of $400 per interpreter, reimbursements for taxi fares, plus any other transportation expenses during the program. Salary expenses are covered centrally and should not be part of an applicant's proposed budget.

4. Book and cultural allowance. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Daily honoraria cannot exceed $250 per day. Subgrantees may also be used, in which case the written agreement between the prospective grantee and the subgrantee should be included in the proposal. Subgrants should be itemized in the budget.

6. Room rental. Room rental may not exceed $250 per day.

7. Materials development. Proposals may contain costs to purchase, develop and translate materials for participants.

ECA strongly discourages the use of automatic translation software for the preparation of training materials or any information distributed to the group of participants or network of organizations. Costs for good-quality translation of materials should be anticipated and included in the budget. Grantee organizations should expect to submit a copy of all program materials to ECA.

8. Equipment. Proposals may contain costs to purchase equipment for Europe/Eurasia-based programming such as computers, fax machines and copy machines. Costs for furniture are not allowed. Equipment costs must be kept to a minimum.

9. Working meal. Only one working meal may be provided during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. The allowance may be used for incidental expenses incurred during international travel.

11. Health Insurance. Foreign participants will be covered under the terms of a Bureau-sponsored health insurance policy. The premium is paid by ECA directly to the insurance company. Applicants are permitted to include costs for travel insurance for U.S. participants in the budget.

12. Administrative Costs. Costs necessary for the effective administration of the program may include salaries for grantee organization employees, benefits, and other direct and indirect costs per detailed instructions in the Application Package. While there is no rigid ratio of administrative to program costs, priority will be given to proposals whose administrative costs are less than twenty-five (25) per cent of the total requested from ECA. Proposals should show strong administrative cost-sharing contributions from the applicant, the in-country partner and other sources.

Please refer to the Proposal Submission Instructions (PSI) for complete budget guidelines.

Announcement Title and Number

All correspondence with ECA concerning this RFGP should reference the above title and number ECA/PE/C/EUR-02-60.

FOR FURTHER INFORMATION CONTACT: By mail: United States Department of State, SA-44, Bureau of Educational and Cultural Affairs, Office of Citizen Exchanges (ECA/PE/C), Room 220, Washington, DC 20547,

attn: Central and Eastern European Exchanges & Training Programs

By phone: Tel: (202) 619-5328 (Kendra Davis), (202) 619-5327 (Henry Scott); or (202) 619-5330 (Michael George); fax: 202-619-4350

By e-mail: kldavis@pd.state.gov, hscott@pd.state.gov, or mdgeorge@pd.state.gov.

Interested applicants may request an application package that is composed of the Request for Grant Proposals (RFGP), the Proposal Submission Instructions (PSI), and the Bureau's Diversity Flyer. Please specify Kendra Davis, Henry Scott, or Michael George on all inquiries and correspondence.

Please read the complete Federal Register announcement before sending inquiries or submitting proposals.

Once the RFGP deadline has passed, Bureau staff may not discuss this competition with applicants until the proposal review process has been completed.

To Download a Solicitation Package Via Internet

The Solicitation Package may be downloaded from ECA's Web site at http://exchanges.state.gov/education/RFGPs. Please read all information before downloading.

Deadline for Proposals

All proposal copies must be received at the Bureau of Educational and Cultural Affairs by 5 p.m. Washington, DC time on April 12, 2002. Faxed documents will not be accepted at any time. Documents postmarked the due date but received on a later date will not be accepted. Each applicant must ensure that the proposals are received by the above deadline.

Applicants must follow all instructions in the Solicitation Package. The original and eight copies (unbound) of the application should be sent to: U.S. Department of State, SA-44, Bureau of Educational and Cultural Affairs, Ref.: ECA/PE/C/EUR-02-60, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards cooperative agreements resides with the Bureau's Grants Officer.

Review Criteria

Technically eligible applications will be competitively reviewed according to the criteria stated below. These criteria are not rank ordered and all carry equal weight in the proposal evaluation:

1. Program Planning and Ability to Achieve Objectives: Program objectives should be stated clearly and precisely and should reflect the applicant's expertise in the subject area and the region. Objectives should respond to the priority topics in this announcement and should relate to the current conditions in the included countries. Objectives should be reasonable and attainable. A detailed work plan should explain step-by-step how objectives will be achieved and should include a timetable for completion of major tasks. The substance of workshops, internships, seminars, presentations and/or consulting should be described in detail. Sample training schedules should be outlined. Responsibilities of in-country partners should be clearly described.

2. Institutional Capacity: The proposal should include (1) The U.S. institution's mission and date of establishment (2) detailed information about the subgrantee's or in-country partner institution's capacity and the history of the U.S. and in-country partnership (3) an outline of prior awards— U.S. government and private support received for the target theme/region (4) descriptions of experienced staff members who will implement the program. Proposed personnel and institutional resources should be adequate and appropriate to achieve the program's goals. The narrative should demonstrate proven ability to handle logistics. The proposal should reflect the institution's expertise in the subject area and knowledge of the conditions in the target country/region(s).

3. Cost Effectiveness and Cost Sharing: Overhead and administrative costs for the proposal, including salaries, honoraria and subcontracts for services, should be kept to a minimum. Priority will be given to proposals whose administrative costs are less than twenty-five (25) per cent of the total funds requested from ECA. Applicants are encouraged to cost share a portion of overhead and administrative expenses. Cost-sharing, including contributions from the applicant, the in-country partner, and other sources should be included in the budget.

4. Program Evaluation: Proposals must include a plan and methodology to evaluate the program's successes, both as the activities unfold and at the program's conclusion. ECA recommends that the proposal include a draft survey questionnaire or other technique (such as a series of questions for a focus group). The evaluation plan should show a clear link between program objectives and expected outcomes in the short- and medium-term, and provide a well-thought-out description of performance indicators and measurement tools.

5. Multiplier Effect/Impact: Proposals should show how the program will strengthen long-term mutual understanding and institutionalization of program goals. Applicants should describe how responsibility and ownership of the program will be transferred to the in-country participants to ensure continued activity and impact. Programs that include convincing plans for sustainability will be given top priority.

6. Follow-on Activities: Proposals should provide a plan for continued follow-on activity (beyond ECA grant period) ensuring that the ECA-supported programs are not isolated events. Follow-on activities should be clearly outlined.

7. Support of Diversity: Proposals should demonstrate substantive support of ECA's policy on diversity. Program content (orientation, evaluation, program sessions, resource materials, follow-on activities) and program administration(selection process, orientation, evaluation) should address diversity in a comprehensive and innovative manner. Applicants should refer to ECA's Diversity, Freedom and Democracy Guidelines on page four of the Proposal Submission Instructions (PSI).

Authority

Overall grant making authority for this program is contained in the Mutual Educational and Cultural Exchange Act of 1961, Pub. L. 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * *and thus to assist in the development of friendly, sympathetic and peaceful relations between the United States and the other countries of the world.” The funding authorities for the programs above are provided through the Fulbright-Hays Act and the Support for East European Democracy (SEED) Act of 1989.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: January 31, 2002.
Patricia S. Harrison,
Assistant Secretary for Educational and Cultural Affairs, U.S. Department of State.

[FR Doc. 02-3006 Filed 2-6-02; 8:45 am]

BILLING CODE 4710-05-P